DEPARTMENT OF AGRICULTURE

Forest Service

Southeast Washington County Resource Advisory Committee (RAC)

AGENCY: Forest Service, USDA.

ACTION: Notice of meeting.

SUMMARY: Pursuant to the authorities in the Federal Advisory Committees Act (Pub. L. 92-463), the Southeast Washington County Resource Advisory Committee (RAC) will meet on February 26, 2003 in Pomeroy, Washington. The purpose of the meeting is to discuss the final selection of Title II projects for Fiscal Year 2003 under Pub. L. 106-393, H.R. 2389, the Secure Rural Schools and Community Self-Determination Act of 2000, also called the “Payments to States” Act.

DATES: The meeting will be held on February 26, 2003 from 6 p.m. to 8 p.m.

ADDRESSES: The meeting will be held at the Pomeroy Ranger District Office, 71 West Main Street, Pomeroy, Washington.

FOR FURTHER INFORMATION CONTACT: Monte Fujishin, Designated Federal Official, USDA, Umatilla National Forest, Pomeroy Ranger District, 71 West Main Street, Pomeroy, WA 99347. Phone: (509) 843-1891.

SUPPLEMENTARY INFORMATION: This meeting will focus on discussing Title II proposed projects. The meeting is open to the public. Public input opportunity will be provided and individuals will have the opportunity to address the committee at that time.

Dated: January 31, 2003.
Monte Fujishin,
Designated Forest Official.

[FR Doc. 03-2997 Filed 2-6-03; 8:45 am]

BILLING CODE 3410-11-M